ENVIRONMENTAL PROTECTION AGENCY

[ER-FRL-6690-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 6, 2007 (72 FR 17156).

Draft EISs

EIS No. 20070169, ERP No. D-GSA-J80047-CO, Denver Federal Central Site Plan Study, Master Site Plan, Implementation, City of Lakewood, Jefferson County, CO

Summary: EPA expressed environmental concern about construction dust and emission impacts on nearby schools and a hospital. EPA requested that mitigation measures be developed. Rating EC2.

EIS No. 20070209, ERP No. D-FHW-C59000-NY, Long Island Truck-Rail Intermodel (LITRIM) Facility, Construction and Operation, Right-of Way Acquisition, Town of Islip, Suffolk County, NY

Summary: EPA expressed environmental concern about air quality impacts, including the need for a General Conformity analysis and PM2.5 hotspot analysis. Rating EC2.

EIS No. 20070230, ERP No. D-FHW-C40171-NY, NYS Route 17 at Exit 122 Interchange Project, To Improve the Safety and Operation, Right-of-Way Acquisition, Town of Wallkill, Orange County, NY

Summary: EPA expressed environmental concern about air quality impacts, wetlands impacts, and the need for a mitigation plan. Rating EC2.

EIS No. 20070253, ERP No. D-BIA-G08012-NM, Desert Rock Energy Project, Construction and Operation of Coal-Fired Power Plant, Right-of-Way Permit, Navajo Nation Indian Reservation, San Juan County, NM

Summary: EPA expressed environmental concern about coal combustion byproduct disposal and dust emissions. EPA requested a comprehensive groundwater monitoring program, additional mitigation for reducing dust emissions, and clarification of the project proponent's commitment to reduce mercury emissions. Rating EC2.

EIS No. 20070282, ERP No. D-AFS-K65330-00, Sierra Nevada Forests Management Indicator Species Amendment (MIS), Proposes to Adopt a Common List of Management Indicator Species (MIS), and Amending Land & Resource Management Plans for Following Ten Forests: Eldorado, Inyo, Lassen, Modoc, Plumas, Sequoia, Sierra, Stanislaus and Tahoe National Forests and Lake Tahoe Basin Management Unit, Several Counties, CA and Douglas, Esmeralda, Mineral Counties, NV

Summary: EPA expressed concerns about the ability of the monitoring system to address Forest-specific unique resources, issues, and concerns. EPA suggests that past collaborative decisions be integrated into the proposed action. Rating EC2.

EIS No. 20070306, ERP No. D-NPS-J61112-CO, Curecanti National Recreation Area Resource Protection Study, Gunnison and Montrose Counties, CO

Summary: EPA does not object to the proposed action. Rating LO.

EIS No. 20070288, ERP No. DA-NOA-K91012-00, Bottomfish and Seamount Groundfish Fisheries of the Western Pacific Region, Amendment 14 to the Fishery Management Plan, Additional Information to Analyze a Range of Management Alternatives to End Bottomfish Overfishing in the Hawaiian Archipelago, HI, GU, and AS

Summary: EPA expressed environmental concern about potential increases in barotrauma mortality in non-target bottomfish species from the preferred alternative's Total Available Catch approach, and recommended mitigation be included to minimize this impact. Rating EC2.

EIS No. 20070284, ERP No. DS-DOE-K08024-CA, Sacramento Area Voltage Support Project, Updated Information, Proposal to Build a Double-Circuit 230-kV Transmission Line, Placer, Sacramento and Sutter Counties, CA

Summary: EPA expressed environmental concern about impacts to air quality and aquatic resources. EPA recommends limiting operating periods and fencing sensitive resources, such as vernal pools, during construction. Rating EC2.

Final EISs

EIS No. 20070302, ERP No. F-USA-G15001-NM, Cannon Air Force Base (AFB), Proposal to Beddown, or Locate Air Force Special Operations Command (AFSOC), Implementation, Base Realignment and Closure (BRAC), NM

Summary: No formal comment letter was sent to the preparing agency.

Dated: September 4, 2007.
Ken Mittelholtz,
Environmental Protection Specialist, Office of Federal Activities.

[FR Doc. E7-17691 Filed 9-6-07; 8:45 am]

BILLING CODE 6560-50-P